DEPARTMENT OF ENERGY

Federal Energy Regulatory Commission

Notice of Effectiveness of Exempt Wholesale Generator or Foreign Utility Company Status

January 23, 2007.

Ewington Energy Systems LLC | Docket No. EG07-1-000
Cisco Wind Energy LLC | Docket No. EG07-2-000
Plains End II, LLC | Docket No. EG07-3-000
RC Cape May Holdings, LLC | Docket No. EG07-4-000
Holland Energy, LLC | Docket No. EG07-5-000
Caithness Long Island, LLC | Docket No. EG07-6-000
BTEC New Albany LLC | Docket No. EG07-7-000
BTEC Southaven LLC | Docket No. EG07-8-000
Uskmouth Power Limited | Docket No. FC07-1-000
Apiaćas Energia S.A. | Docket No. FC07-2-000
Bra̧co Norte Energia S.A.
Quatiara Energia S.A.
Vale Energetica S.A.
Cuiabá Energia S.A.
Primavera Energia S.A.
VP Energia S.A.
Isamu Ikeda Energia S.A.
Sociebe Energia S.A.
Alvorada Energia S.A.
Enel Brasil Participações, Ltda.
Tynagh Energy Limited | Docket No. FC07-3-000

Take notice that during the month of December 2006, the status of the above-captioned entities as Exempt Wholesale Generators or Foreign Utility Companies became effective by operation of the Commission's regulations. 18 CFR 366.7(a).

Magalie R. Salas,
Secretary.

[FR Doc. E7-1364 Filed 1-29-07; 8:45 am]

BILLING CODE 6717-01-P